ENVIRONMENTAL PROTECTION AGENCY

40 CFR Parts 60 and 75

[OAR-2002-0056; FRL-7960-1]

RIN 2060-AJ65

Standards of Performance for New and Existing Stationary Sources: Electric Utility Steam Generating Units

AGENCY: Environmental Protection Agency (EPA).

ACTION: Final rule; corrections.

SUMMARY: This action corrects and clarifies certain text of the final rule entitled “Standards of Performance for New and Existing Stationary Sources: Electric Utility Steam Generating Units.” The final rule was published in the Federal Register on May 18, 2005 (70 FR 28606).

This action corrects certain section designations set forth in the final rule at 70 FR 28652. In addition, this action corrects certain revisions set forth in the final rule at 70 FR 28678. These corrections do not affect the substance of the action, nor do they change the rights or obligations of any party. Rather, this action merely corrects certain section designations to eliminate duplication with other rules. Thus, it is proper to issue these final rule corrections without notice and comment. Section 553 of the Administrative Procedure Act (APA), 5 U.S.C. 553(b)(B), provides that, when an agency for good cause finds that notice and public procedure are impracticable, unnecessary, or contrary to the public interest, the agency may issue a rule without providing notice and an opportunity for public comment. We have determined that there is good cause for making this action final without prior proposal and opportunity for comment because the changes to the rule are minor technical corrections, are noncontroversial, and do not substantively change the agency actions taken in the final rule. Thus, notice and public procedure are unnecessary. We find that this constitutes good cause under 5 U.S.C. 553(b)(B).

EFFECTIVE DATE: May 18, 2005.

FOR FURTHER INFORMATION CONTACT: Mr. William Maxwell, Combustion Group, Emission Standards Division (C439-01), EPA, Research Triangle Park, North Carolina, 27711; telephone number (919) 541-5430; fax number (919) 541-5450; electronic mail address: maxwell.bill@epa.gov.

SUPPLEMENTARY INFORMATION:

I. What Is the Background for the Corrections?

On May 18, 2005 (70 FR 28606), EPA issued a final rule in which EPA promulgated new source performance standards for new coal-fired electric utility steam generating units and emission guidelines for existing coal-fired electric utility steam generating units designed to limit mercury (Hg) emissions from such sources. EPA subsequently determined that certain sections of the final rule were not properly designated, i.e., the numbering was not correct, and that certain rule text was not properly identified as introductory text. This action corrects those technical errors.

II. What Are the Corrections to Final Rule (70 FR 28652, 27678)?

This notice corrects the following errors. In inserting a section to 40 CFR part 60, subpart Da (e.g., 40 CFR 60.45a), to incorporate emission limitations for Hg, subsequent sections were renumbered. In so doing, we inadvertently assigned section numbers to 40 CFR part 60, subpart Da, that were already in use in 40 CFR part 60, subpart Ea. To correct this error, it is necessary to renumber all of the sections in 40 CFR part 60, subpart Da, and to correct the associated internal references in the same manner. Further, in revising 40 CFR 75.6, we inadvertently indicated that we were revising entire paragraphs, rather than just the introductory text.

III. Statutory and Executive Order Reviews

Under Executive Order 12866, Regulatory Planning and Review (58 FR 51735, October 4, 1993), this action is not a “significant regulatory action” and is, therefore, not subject to review by the Office of Management and Budget (OMB). This action is not a “major rule” as defined by 5 U.S.C. 804(2). The technical corrections do not impose an information collection burden under the provisions of the Paperwork Reduction Act of 1995 (44 U.S.C. 3501 et seq.). Because EPA has made a “good cause” finding that this action is not subject to notice and comment requirements under the APA or any other statute, it is not subject to the regulatory flexibility provisions of the Regulatory Flexibility Act (5 U.S.C. 601 et seq.), or to sections 202 and 205 of the Unfunded Mandates Reform Act of 1995 (UMRA) (Pub. L. 104B4). In addition, this action does not significantly or uniquely affect small governments or impose a significant intergovernmental mandate, as described in sections 203 and 204 of the UMRA.

The corrections do not have substantial direct effects on the States, or on the relationship between the national government and the States, or on the distribution of power and responsibilities among the various levels of government, as specified in Executive Order 13132, Federalism (64 FR 43255, August 10, 1999).

Today's action also does not significantly or uniquely affect the communities of Tribal governments, as specified in Executive Order 13175, Consultation and Coordination with Indian Tribal Governments (65 FR 67249, November 9, 2000). The technical corrections also are not subject to Executive Order 13045, Protection of Children from Environmental Health and Safety Risks (62 FR 19885, April 23, 1997) because this action is not economically significant.

The corrections are not subject to Executive Order 13211, Actions Concerning Regulations That Significantly Affect Energy Supply, Distribution, or Use (66 FR 28355, May 22, 2001) because this action is not a significant regulatory action under Executive Order 12866.

The corrections do not involve changes to the technical standards related to test methods or monitoring methods; thus, the requirements of section 12(d) of the National Technology Transfer and Advancement Act of 1995 (15 U.S.C. 272) do not apply.

The corrections also do not involve special consideration of environmental justice-related issues as required by Executive Order 12898, Federal Actions to Address Environmental Justice in Minority Populations and Low-Income Populations (59 FR 7629, February 16, 1994).

The Congressional Review Act, 5 U.S.C. 801 et seq., as added by the Small Business Regulatory Enforcement Fairness Act of 1996 (SBREFA), generally provides that before a rule may take effect, the agency promulgating the rule must submit a rule report, which includes a copy of the rule, to each House of the Congress and to the Comptroller General of the U.S. EPA will submit a report containing today's final action and other required information to the U.S. Senate, the U.S. House of Representatives, and the Comptroller General of the U.S. prior to publication of today's action in the Federal Register. Today's action is not a “major rule” as defined by 5 U.S.C. 804(2). The final rule will be effective on May 18, 2005.

EPA's compliance with the above statutes and EO for the underlying rule is discussed in the May 18, 2005 Federal Register notice containing “Standards of Performance for New and Existing Stationary Sources: Electric Utility Steam Generating Units” (70 FR 28606).

List of Subjects

40 CFR Part 60

Environmental protection, Administrative practice and procedure, Air pollution control, Coal, Electric power plants, Incorporation by reference, Intergovernmental relations, Metals, Natural gas, Nitrogen dioxide, Particulate matter, Reporting and recordkeeping requirements, Sulfur oxides.

40 CFR Part 75

Acid rain, Air pollution control, Carbon dioxide, Electric utilities, Incorporation by reference, Nitrogen oxides, Reporting and recordkeeping requirements, Sulfur oxides.

Dated: August 19, 2005.
Jeffrey R. Holmstead,
Assistant Administrator, Office of Air and Radiation.

For the reasons stated in the preamble, title 40, chapter I of the Code of the Federal Regulations is amended as follows:

PART 60—[AMENDED]

1. The authority citation for part 60 continues to read as follows:

Authority: 42 U.S.C. 7401, 7403, 7426, and 7601.

Subpart Da—[AMENDED]

2. Subpart Da is amended as follows:

a. Redesignating § 60.40a as § 60.40Da;

b. Redesignating § 60.41a as § 60.41Da;

c. Redesignating § 60.42a as § 60.42Da;

d. Redesignating § 60.43a as § 60.43Da;

e. Redesignating § 60.44a as § 60.44Da;

f. Redesignating § 60.45a as § 60.45Da;

g. Redesignating § 60.46a as § 60.46Da;

h. Redesignating § 60.47a as § 60.47Da;

i. Redesignating § 60.48a as § 60.48Da;

j. Redesignating § 60.49a as § 60.49Da;

k. Redesignating § 60.50a as § 60.50Da;

l. Redesignating § 60.51a as § 60.51Da; and

m. Redesignating § 60.52a as § 60.52Da.

§ 60.43Da [Amended]

3. Newly redesignated § 60.43Da is amended by revising the existing reference in paragraph (f) from “§ 60.45a” to “§ 60.47Da”.

§ 60.44Da [Amended]

4. Newly redesignated § 60.44Da is amended as follows:

a. Revising the existing reference in paragraph (a) from “§ 60.46a(j)(1)” to “§ 60.48Da(j)(1)”;

b. Revising the existing reference in paragraph (b) from “§ 60.45a” to “§ 60.47Da”; and

c. Revising the existing reference in paragraph (d)(1) from “§ 60.46a(k)(1)” to “§ 60.48Da(k)(1)”.

§ 60.45Da [Amended]

5. Newly redesignated § 60.45Da is amended by:

a. Revising the existing reference in paragraph (a) from “§ 60.50a(h)” to “§ 60.50Da(h)”; and

b. Revising the existing reference in paragraph (b) from “§60.50a(g)” to “§60.50Da(g)”.

§ 60.47Da [Amended]

6. Newly redesignated § 60.47Da is amended as follows:

a. Revising the existing reference in paragraph (b) from “§ 60.43a(c)” to “§ 60.43Da(c)”;

b. Revising the existing reference in paragraph (c) from “§ 60.43a(a)” to “§ 60.43Da(a)”; and

c. Revising the existing reference in paragraph (d) from “§ 60.44a(a)” to “§ 60.44Da(a)”.

§ 60.48Da [Amended]

7. Newly redesignated § 60.48Da is amended as follows:

a. Revising the existing references in paragraph (a) from “§ 60.42a(a)(1)” to “§ 60.42Da(a)(1)” and from “§ 60.42a(a)(2) and (3)” to “§ 60.42Da(a)(2) and (3)”;

b. Revising the existing references in paragraph (b) from “§ 60.44a(a)” to “§ 60.44Da(a)” and from “§ 60.44a(a)(2)” to “§ 60.44Da(a)(2)”;

c. Revising the existing references in paragraph (c) from “§ 60.42a” to “§ 60.42Da”, from “§ 60.44a” to “§ 60.44Da”, and from “§ 60.45a” to “§ 60.45Da”;

d. Revising the existing reference in paragraph (d)(3) from “§ 60.43a” to “§ 60.43Da”;

e. Revising the existing references in paragraph (e) from “§ 60.43a” to “§ 60.43Da” and from “§ 60.44a” to “§ 60.44Da”;

f. Revising the existing references in paragraph (f) from “§ 60.43a” to “§ 60.43Da” and from “§ 60.44a” to “§ 60.44Da”;

g. Revising the existing references in paragraph (h) from “§ 60.49a” to “§ 60.49Da”, from “§ 60.43a” to “§ 60.43Da”, and from “60.44a” to “§ 60.44Da”;

h. Revising the existing references in paragraph (i) from “§ 60.44a(d)(1)” to “§ 60.44Da(d)(1)”, from “§ 60.49a(c)” to “§ 60.49Da(c)”, from “§ 60.49a(l)” to “§ 60.49Da(l)”, and from “§ 60.49a(k)” to “§ 60.49Da(k)”;

i. Revising the existing reference in paragraph (j) introductory text from “§ 60.44a(a)(1)” to “§ 60.44Da(a)(1)”;

j. Revising the existing reference in paragraph (j)(1) from “§ 60.44a(a)(1)” to “§ 60.44Da(a)(1)”;

k. Revising the existing references in paragraph (j)(2) from “§ 60.49a” to “§ 60.49Da”;

l. Revising the existing references in paragraph (k) introductory text from “§ 60.44a(d)(1)” to “§ 60.44Da(d)(1)”;

m. Revising the existing reference in paragraph (k)(1) from “§ 60.44a(d)(1)” to “§ 60.44Da(d)(1)”;

n. Revising the existing reference in paragraph (k)(1)(iv) from “§ 60.44a(d)(1)” to “§ 60.44Da(d)(1)”;

o. Revising the existing reference in paragraph (k)(2) introductory text from “§ 60.44a(d)(1)” to “§ 60.44Da(d)(1)”;

p. Revising the existing references in paragraph (k)(2)(ii) from “§ 60.49a” to “§ 60.49Da” and from “§ 60.49a(l)” to “§ 60.49Da(l)”;

q. Revising the existing reference in paragraph (k)(2)(iii) from “§ 60.49a(k)” to “§ 60.49Da(k)”;

r. Revising the existing reference in paragraph (k)(2)(iv) from “§ 60.49a(l)” to “§ 60.49Da(l)”; and

s. Revising the existing references in paragraph (l) from “§ 60.45a” to “§ 60.45Da”, from “§ 60.49a(p)” to “§ 60.49Da(p)”, from “§ 60.49a(l) or (m)” to “§ 60.49Da(l) or (m)”, and from “§ 60.49a(k)” to “§ 60.49Da(k)”.

§ 60.49Da [Amended]

8. Newly redesignated § 60.49Da is amended as follows:

a. Revising the existing reference in paragraph (b)(2) from “§ 60.43a(d)” to “§ 60.43Da(d)”;

b. Revising the existing references in paragraph (c)(2) from “§ 60.51a” to “§ 60.51Da”;

c. Revising the existing reference in paragraph (g) from “§ 60.48a” to “§ 60.48Da”;

d. Revising the existing reference in paragraph (k) from “§ 60.44a(d)(1)” to “§ 60.44Da(d)(1)”;

e. Revising the existing reference in paragraph (l) from “§ 60.44a(d)(1)” to “§ 60.44Da(d)(1)”;

f. Revising the existing references in paragraph (o) from “§ 60.41a” to “§ 60.41Da” and from “§ 60.44a(a)(1) or (d)(1)” to “§ 60.44Da(a)(1) or (d)(1)”;

g. Revising the existing reference in paragraph (p) from “§ 60.45a” to “§ 60.45Da”;

h. Revising the existing reference in paragraph (p)(4)(iii) from “§ 60.49a(p)(4)(i)” to “§ 60.49Da(p)(4)(i)”; and

i. Revising the existing reference in paragraph (p)(4)(iv) from “§ 60.49a(p)(4)(i)” to “§ 60.49Da(p)(4)(i)”.

§ 60.50Da [Amended]

9. Newly redesignated § 60.50Da is amended as follows:

a. Revising the existing reference in paragraph (b) introductory text from “§ 60.42a” to “§ 60.42Da”;

b. Revising the existing reference in paragraph (c) introductory text from “§ 60.43a” to “§ 60.43Da”;

c. Revising the existing reference in paragraph (c)(5) from “§ 60.49a(b) and (d)” to “§ 60.49Da(b) and (d)”;

d. Revising the existing reference in paragraph (d) introductory text from “§ 60.44a” to “§ 60.44Da”;

e. Revising the existing reference in paragraph (d)(2) from “§ 60.49a(c) and (d)” to “§ 60.49Da(c) and (d)”;

f. Revising the existing reference in paragraph (e)(2) from “§ 60.48a(d)(1)” to “§ 60.48Da(d)(1)”;

g. Revising the existing references in paragraph (g) introductory text from “§ 60.45a” to “§ 60.45Da” and from “§ 60.46a” to “§ 60.46Da”;

h. Revising the existing reference in paragraph (h) introductory text from “§ 60.45a” to “§ 60.45Da”; and

i. Revising the existing reference in paragraph (h)(1) from “§ 60.49a(p)(4)(i)” to “§ 60.49Da(p)(4)(i)”.

§ 60.51Da [Amended]

10. Newly redesignated § 60.51Da is amended as follows:

a. Revising the existing references in paragraph (c) introductory text from “§ 60.49a” to “§ 60.49Da” and from “§ 60.48a(h)” to “§ 60.48Da(h)”;

b. Revising the existing reference in paragraph (d) introductory text from “§ 60.43a” to “§ 60.43Da”;

c. Revising the existing reference in paragraph (d)(1) from “§ 60.48a(d)” to “§ 60.48Da(d)”;

d. Revising the existing reference in paragraph (e) introductory text from “§ 60.43a” to “§ 60.43Da”;

e. Revising the existing reference in paragraph (e)(1) from “§ 60.50a” to “§ 60.50Da”; and

f. Revising the existing reference in paragraph (i) from “§ 60.42a(b)” to “§ 60.42Da(b)”.

§ 60.52Da [Amended]

11. Newly redesignated § 60.52Da is amended by revising the existing references from “§ 60.45a” to “§ 60.45Da” and from “§ 60.46a” to “§ 60.46Da”.

PART 75—[AMENDED]

12. The authority citation for part 75 continues to read as follows:

Authority: 42 U.S.C. 7601, 7651k, and 7651k.

13. Section 75.6 is amended by revising paragraphs (b) introductory text, (c), (d) introductory text, and (e) introductory text to read as follows:

§ 75.6 Incorporation by reference.

* * * * *

(b) The following materials are available for purchase from the American Society of Mechanical Engineers (ASME), 22 Law Drive, P.O. Box 2900, Fairfield, New Jersey 07007-2900:

* * * * *

(c) The following materials are available for purchase from the American National Standards Institute (ANSI), 25 West 43rd Street, Fourth Floor, New York, New York 10036:

(1) ISO 8316: 1987(E) Measurement of Liquid Flow in closed Conduits-Method by Collection of the Liquid in a Volumetric Tank, for appendices D and E of this part.

(2) [Reserved].

* * * * *

(d) The following materials are available for purchase from the following address: Gas Processors Association (GPA), 6526 East 60th Street, Tulsa, Oklahoma 74143:

* * * * *

(e) The following American Gas Association materials are available for purchase from the following address: ILI Infodisk, 610 Winters Avenue, Paramus, New Jersey 07652:

* * * * *

[FR Doc. 05-16927 Filed 8-29-05; 8:45 am]

BILLING CODE 6560-50-P